DEPARTMENT OF AGRICULTURE

Grain Inspection, Packers and Stockyards Administration

Proposed Posting and Posting of Stockyards

AGENCY: Grain Inspection, Packers and Stockyards Administration, USDA.

ACTION: Notice and request for comments.

SUMMARY: We propose to post 16 stockyards. We have received information that the stockyards meet the definition of a stockyard under the Packers and Stockyards Act and, therefore, need to be posted. Posted stockyards are subject to the provisions of the Packers and Stockyards Act. We have posted 2 stockyards. We determined that the stockyards meet the definition of a stockyard under the Packers and Stockyards Act and, therefore, needed to be posted.

DATES: For the proposed posting of stockyards, we will consider comments that we receive by August 9, 2005.

ADDRESSES: We invite you to submit comments on this notice. You may submit comments by any of the following methods:

• E-Mail: Send comments via electronic mail to comments.gipsa@usda.gov.

• Mail: Send hardcopy written comments to Tess Butler, GIPSA, USDA, 1400 Independence Avenue, SW., Room 1647-S, Washington, DC 20250-3604.

• Fax: Send comments by facsimile transmission to: (202) 690-2755.

• Hand Delivery or Courier: Deliver comments to: Tess Butler, GIPSA, USDA, 1400 Independence Avenue, SW., Room 1647-S, Washington, DC 20250-3604.

SUPPLEMENTARY INFORMATION: The Grain Inspection, Packers and Stockyards Administration (GIPSA) administers and enforces the Packers and Stockyards Act of 1921, as amended and supplemented (7 U.S.C. 181-229) (P&S Act). The P&S Act prohibits unfair, deceptive, and fraudulent practices by livestock market agencies, dealers, stockyard owners, meat packers, swine contractors, and live poultry dealers in the livestock, poultry, and meatpacking industries.

Section 302(a) of the P&S Act (7 U.S.C. 202(a)) defines the term “stockyard” as follows:

* * * any place, establishment, or facility commonly known as stockyards, conducted, operated, or managed for profit or nonprofit as a public market for livestock producers, feeders, market agencies, and buyers, consisting of pens, or other inclosures, and their appurtenances, in which live cattle, sheep, swine, horses, mules, or goats are received, held, or kept for sale or shipment in commerce.

Section 302(b) of the P&S Act (7 U.S.C. 202(b)) requires the Secretary to determine which stockyards meet this definition, and to notify the owner of the stockyard and the public of that determination by posting a notice in each designated stockyard. After giving notice to the stockyard owner and to the public, the stockyard will be subject to the provisions of Title III of the P&S Act (7 U.S.C. 201-203 and 205-217a) until the Secretary deposts the stockyard by public notice.

This document notifies the stockyard owners and the public that the following 16 stockyards meet the definition of stockyard and that we propose to designate the stockyards as posted stockyards.

Facility No. | Stockyard name and location
AR-177 | Morrilton Horse Sale, Morrilton, Arkansas.
GA-226 | G. R. Sales Co. at Southeastern Arena, Unadilla, Georgia.
IN-167 | Northern Indiana Collection Point, LLC, Shipshewana, Indiana.
IN-168 | Hardinsburg Horse Sales, Hardinsburg, Indiana.
KS-208 | Wakarusa Sale Barn, Wakarusa, Kansas.
LA-147 | Hays Brothers Livestock Market, LLC, Arcadia, Louisiana.
NY-175 | Welch Livestock Market, Inc., West Edmeston, New York.
NC-176 | Triad Livestock Arena, Archdale, North Carolina.
SC-161 | Highway 34 Auction Barn, Lugoff, South Carolina.
TN-195 | Wilson Horse and Mule Sale, Inc. Cookeville, Tennessee.
TN-196 | Country Horse Sales, LLC., Westmoreland, Tennessee.
TX-348 | Grimes County Stockyards, L.L.C., Navasota, Texas.
VA-162 | Virginia Cattle Company, Radiant, Virginia.
WV-120 | Meadow View Farm, Thornton, West Virginia.
WI-148 | Milwaukee Stockyards, LLC, Reeseville, Wisconsin.
WI-149 | Horst Stables, LLC, Thorp, Wisconsin.

This document also notifies the public that the following two stockyards meet the definition of stockyard and that we have posted the stockyards. We published notices proposing to post the two stockyards on November 7, 2003 (68 FR 63055-63056). We received no comments in response to the proposed posting notice. To post stockyards, we assign the stockyard a facility number, notify the owner of the stockyard facility, and send notices to the owner of the stockyard to post on display in public areas of the stockyard. The date of posting is the date on which the posting notices are physically displayed.

Facility No. | Stockyard name and location | Date of posting
AR-176 | 101 Livestock Auction, Blackwell, Arkansas | March 18, 2004.
TN-193 | Lewisburg Livestock, Columbia, Tennessee | April 5, 2004.

Authority: 7 U.S.C. 202.

David R. Shipman,
Acting Administrator, Grain Inspection, Packers and Stockyards Administration.

[FR Doc. 05-14593 Filed 7-22-05; 8:45 am]

BILLING CODE 3410-EN-P